DEPARTMENT OF LABOR

Employment and Training Administration

[TA-W-83,328]

General Electric Company; Transportation Division Including On-Site Leased Workers From Adecco and Yoh Services Llc; Erie, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on June 3, 2014, applicable to workers of General Electric Company, Transportation Division, including on-site leased workers from Adecco, Erie, Pennsylvania.

At the request of worker, the Department reviewed the certification for workers of the subject firm. The workers were engaged in activities related to the production of marine and stationary drills, locomotives and kits and off-highway vehicles (OHV).

The company reports that workers leased from Yoh Services LLC were on-site at the Erie, Pennsylvania location of General Electric Company, Transportation Division. The Department has determined that these workers were sufficiently under the control of the subject firm to be considered leased workers.

Based on these findings, the Department is amending this certification to include workers leased from Yoh Services LLC working on-site at the Erie, Pennsylvania location of General Electric Company, Transportation Division.

The amended notice applicable to TA-W-83,328 is hereby issued as follows:

All workers of Yoh Services LLC, reporting to General Electric Company, Transportation Division, including on-site leased workers from Adecco, Erie, Pennsylvania, who became totally or partially separated from employment on or after December 20, 2012 through June 3, 2016, and all workers in the group threatened with total or partial separation from employment on the date of certification through two years from the date of certification, are eligible to apply for adjustment assistance under Chapter 2 of Title II of the Trade Act of 1974, as amended.

Signed in Washington, DC, this 28th day of January, 2015.
Michael W. Jaffe,
Certifying Officer, Office of Trade Adjustment Assistance.

[FR Doc. 2015-03278 Filed 2-17-15; 8:45 am]

BILLING CODE 4510-FN-P